SMALL BUSINESS ADMINISTRATION

[Disaster Declaration #20720 and #20721; NORTH CAROLINA Disaster Number NC-20009]

Presidential Declaration Amendment of a Major Disaster for Public Assistance Only for the State of North Carolina

AGENCY: U.S. Small Business Administration.

ACTION: Amendment 3.

SUMMARY: This is an amendment of the Presidential declaration of a major disaster for Public Assistance Only for the State of North Carolina (FEMA-4827-DR), dated October 2, 2024.

Incident: Tropical Storm Helene.

DATES: Issued on December 20, 2024.

Incident Period: September 25, 2024 through December 18, 2024.

Physical Loan Application Deadline Date: January 20, 2025.

Economic Injury (EIDL) Loan Application Deadline Date: July 2, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of North Carolina, dated October 2, 2024, is hereby amended to update the incident period for this disaster as beginning September 25, 2024 and continuing through December 18, 2024.

All other information in the original declaration remains unchanged.

(Catalog of Federal Domestic Assistance Number 59008)

Alejandro Contreras,
Acting Deputy Associate Administrator, Office of Disaster Recovery & Resilience.

[FR Doc. 2024-31605 Filed 1-3-25; 8:45 am]

BILLING CODE 8026-09-P